FEDERAL MARITIME COMMISSION

Ocean Transportation Intermediary License Reissuances

Notice is hereby given that the following Ocean Transportation Intermediary license has been reissued by the Federal Maritime Commission pursuant to section 19 of the Shipping Act of 1984 (46 U.S.C. Chapter 409), and the regulations of the Commission pertaining to the licensing of Ocean Transportation Intermediaries, 46 CFR part 515.

License No. | Name/address | Date resissued
004130NF | GSG Investment Inc., dba Worldwide Logistics Company, dba WWL dba Trade Passage, 2411 Santa Fe Avenue, Unit C, Redondo Beach, CA 90278 | August 26, 2006.

Peter J. King,
Deputy Director, Bureau of Certification and Licensing.

[FR Doc. E6-17882 Filed 10-24-06; 8:45 am]

BILLING CODE 6730-01-P